DEPARTMENT OF HEALTH AND HUMAN SERVICES

Food and Drug Administration

[Docket No. FDA-2010-N-0004]

FDA 225-09-0012

Memorandum of Understanding Between the Food and Drug Administration and Drugs.Com; Correction of Effective Date

AGENCY: Food and Drug Administration, HHS.

ACTION: Notice; correction.

SUMMARY: The Food and Drug Administration (FDA) is providing notice to correct the effective date of the memorandum of understanding (MOU) between FDA and Drugs.Com that published in the Federal Register of May 26, 2010 (75 FR 29561). The purpose of the cooperative program is to extend the reach of FDA Consumer Health Information and to provide consumers with better information and timely content concerning public health and safety topics, including alerts of emerging safety issues and product recalls.

DATES: The agreement became effective October 13, 2009.

FOR FURTHER INFORMATION CONTACT: Jason Brodsky, Consumer Health Information Staff, Office of External Relations, Food and Drug Administration, 10903 New Hampshire Ave., Bldg. 32, rm. 5378, Silver Spring, MD 20993-0002, 301-796-8234, e-mail: Jason.Brodsky@fda.hhs.gov.

Dated: June 11, 2010.
Leslie Kux,
Acting Assistant Commissioner for Policy.

[FR Doc. 2010-14599 Filed 6-16-10; 8:45 am]

BILLING CODE 4160-01-S